DEPARTMENT OF THE INTERIOR

Bureau of Reclamation

[RR01113000, XXXR0680R1, RR.R0336A1R.7WRMP0032]

Notice of Availability of a Supplemental Draft Environmental Impact Statement and Notice of Public Meetings for the Kachess Drought Relief Pumping Plant and Keechelus Reservoir-to-Kachess Reservoir Conveyance, Kittitas and Yakima Counties, Washington

AGENCY: Bureau of Reclamation, Interior.

ACTION: Notice of availability and public meetings.

SUMMARY: The Bureau of Reclamation and Washington State Department of Ecology (Ecology) have made available for public review and comment the Kachess Drought Relief Pumping Plant and Keechelus Reservoir-to-Kachess Reservoir Conveyance Supplemental Draft Environmental Impact Statement (SDEIS). This SDEIS was previously identified in the Notice of Intent to Prepare an Environmental Impact Statement as “Keechelus Reservoir-to-Kachess Reservoir Conveyance and Kachess Inactive Storage.” The name was changed to better reflect the proposed action and alternatives evaluated in the SDEIS. The SDEIS addresses the impacts associated with the Kachess Drought Relief Pumping Plant (KDRPP) and Keechelus Reservoir-to-Kachess Reservoir Conveyance (KKC) by expanding on the analysis conducted in the Yakima River Basin Integrated Water Resource Management Plan (Integrated Plan) Programmatic Environmental Impact Statement (March 2012).

DATES: Send written comments on the SDEIS on or before July 12, 2018.

Two public meetings will be held on the following dates:

1. Wednesday, May 16, 2018, 4:00 p.m. to 7:00 p.m., Cle Elum, WA.

2. Thursday, May 17, 2018, 4:00 p.m. to 7:00 p.m., Ellensburg, WA.

ADDRESSES: Send written comments or requests for copies to Ms. Candace McKinley, Bureau of Reclamation, 1917 Marsh Road, Yakima, WA 98901, 509-575-5848, ext. 603, or via email to kkbt@usbr.gov. The SDEIS is also accessible on the following websites: http://www.usbr.gov/pn/programs/eis/kdrpp/index.html and http://www.usbr.gov/pn/programs/eis/kkc/index.html.

The public meeting locations are:

1. Cle Elum—U.S. Forest Service, Cle Elum Ranger District, Tom Craven Conference Room, 803 W 2nd Street, Cle Elum, Washington 98922;

2. Ellensburg—Armory Main Hall, Kittitas Valley Event Center, 901 East 7th Ave., Ellensburg, Washington 98926.

FOR FURTHER INFORMATION CONTACT: Ms. Candace McKinley, 509-575-5848, ext. 603; or by email at kkbt@usbr.gov.

SUPPLEMENTARY INFORMATION: The Bureau of Reclamation published a notice of availability of a draft environmental impact statement previously identified as “Keechelus Reservoir-to-Kachess Reservoir Conveyance and Kachess Inactive Storage” in the Federal Register on January 9, 2015 (80 FR 1431). The public comment period was reopened and concluded on June 15, 2015. A supplemental draft environmental impact statement was necessary after analyzing the need for a floating pumping plant that could be a feasible alternative to achieve the KDRPP purposes. The SDEIS, titled, “Kachess Drought Relief Pumping Plant and Keechelus Reservoir-to-Kachess Reservoir Conveyance Supplemental Draft Environmental Impact Statement” documents the potential effects that may result from the new pumping plant at Kachess Reservoir and water conveyance from Keechelus Reservoir to Kachess Reservoir.

The SDEIS evaluates construction and operation of three alternative designs and locations for the Kachess Drought Relief Pumping Plant, including reservoir intakes and tunnels, pumping plants and pump units, pipelines, surge tanks, outlet works, fish screens and barriers, power supply substations, and electric transmission lines. The SDEIS also evaluates construction and operation of the KKC, including the Yakima River diversion and intake, the Yakima River to Keechelus portal conveyance, fish screen, bored tunnel, discharge structure, spillway and stilling basin, and mechanical building as a component of KDRPP.

The primary study area generally encompasses Kachess Reservoir and its tributaries, Keechelus Reservoir and its tributaries, the Kachess River, the Yakima River between Keechelus Dam and the Easton Diversion Dam near Lake Easton and the electric transmission line route from near Easton to the Kachess Reservoir pumping plant. The extended study area generally includes the Yakima Project vicinity.

Authority

The Kachess and Keechelus reservoirs were authorized on December 12, 1905, by the Secretary of the Interior in connection with the Tieton and Sunnyside Divisions of the Yakima Project. The Secretary was acting under authority of the Reclamation Act of June 17, 1902. The Yakima River Basin Water Enhancement Project was authorized on December 28, 1979 (93 Stat. 1241, Pub. L. 96-162, Feasibility Study—Yakima River Basin Water Enhancement Project). Title XII of the Yavapai-Prescott Indian Tribe Water Rights Settlement Act of 1994 (108 Stat. 4526 Pub. L. 103-434) authorized fish, wildlife, and recreation as additional purposes of the Yakima Project.

Public Review of SDEIS

Copies of the SDEIS are available for public review at the following locations:

1. Bureau of Reclamation, Columbia-Cascades Area Office, 1917 Marsh Road,

Yakima, Washington 98901.

2. Washington State Department of Ecology, 15 W. Yakima Avenue, Suite 200, Yakima, Washington 98902.

Libraries

1. Carpenter Memorial Library, 302 N Pennsylvania Ave., Cle Elum, WA 98922.

2. Ellensburg Public Library, 209 N. Ruby St., Ellensburg, WA 98926.

3. Roslyn Public Library, 201 S. First St., Roslyn, WA 98941.

4. Benton City Library, 810 Horne Dr., Benton City, WA 99320.

5. Kennewick Library, 1620 S. Union St., Kennewick, WA 99338.

6. Kittitas Public Library, 200 N. Pierce St., Kittitas, WA 98934.

7. Mid-Columbia Library, 405 S. Dayton St., Kennewick, WA 99336.

8. Pasco Library, 1320 W. Hopkins St., Pasco, WA 99301.

9. Prosser Library, 902 7th St., Prosser, WA 99350.

10. Richland Public Library, 955 Northgate Dr., Richland, WA 99352.

11. Sunnyside Public Library, 621 Grant Ave., Sunnyside, WA 98944.

12. Toppenish Library, 1 S. Elm St., Toppenish, WA 98948.

13. Wapato Library, 119 E. 3rd St., Wapato, WA 98951.

14. Washington State Library, Point Plaza East, 6880 Capitol Blvd. SE, Tumwater, WA 98504.

15. West Richland Library, 3803 W. Van Giesen St., Richland, WA 99353.

16. Yakama Nation Library, 100 Spiel-Yi Loop, Toppenish, WA 98948.

17. Yakima Valley Regional Library, 102 N. 3rd St., Yakima, WA 98901.

Special Assistance for Public Meetings

If special assistance is required at the public meetings, please contact Ms. Candace McKinley, at kkbt@usbr.gov or 509-575-5848, ext. 603. Please notify Ms. McKinley as far in advance of the meeting as possible to enable Reclamation to secure the needed services. If a request cannot be honored, the requestor will be notified. TTY users may dial 711 to obtain a toll-free TTY relay.

Public Disclosure

Before including your address, phone number, email address, or other personal identifying information in your comment, you should be aware that your entire comment—including your personal identifying information—may be made publicly available at any time. While you can ask us in your comment to withhold your personal identifying information from public review, we cannot guarantee that we will be able to do so.

Dated: April 6, 2018.
Lorri J. Gray,
Regional Director, Pacific Northwest Region.

[FR Doc. 2018-07737 Filed 4-12-18; 8:45 am]

BILLING CODE 4332-90-P